DEPARTMENT OF ENERGY

Federal Energy Regulatory Commission

Combined Notice of Filings #1

Take notice that the Commission received the following electric rate filings:

Docket Numbers: ER11-3494-003.

Applicants: Southwest Power Pool, Inc.

Description: Southwest Power Pool, Inc. submits tariff filing per 35: Second Compliance Filing—2198 Kansas Power Pool NITSA NOA to be effective 4/1/2011.

Filed Date: 10/12/2011.

Accession Number: 20111012-5107.

Comment Date: 5 p.m. Eastern Time on Wednesday, November 2, 2011.

Docket Numbers: ER11-4665-001.

Applicants: North Branch Resources, LLC.

Description: North Branch Resources, LLC submits tariff filing per 35: Application for Designation of Category 1 Status to be effective 10/12/2011.

Filed Date: 10/12/2011.

Accession Number: 20111012-5108.

Comment Date: 5 p.m. Eastern Time on Wednesday, November 2, 2011.

Docket Numbers: ER11-4673-001.

Applicants: Air Liquide Large Industries U.S. LP.

Description: Air Liquide Large Industries U.S. LP submits tariff filing per 35: MBR Tariff to be effective 10/12/2011.

Filed Date: 10/12/2011.

Accession Number: 20111012-5126.

Comment Date: 5 p.m. Eastern Time on Wednesday, November 2, 2011.

Docket Numbers: ER12-67-000.

Applicants: Northeast Energy Associates, L.P.

Description: Northeast Energy Associates, L.P. submits tariff filing per 35.13(a)(2)(iii: Northeast Energy Associates, A Limited Partnership Revisions to MBR Tariff to be effective 7/26/2010.

Filed Date: 10/12/2011.

Accession Number: 20111012-5158.

Comment Date: 5 p.m. Eastern Time on Wednesday, November 2, 2011.

Docket Numbers: ER12-68-000.

Applicants: North Jersey Energy Associates, L.P.

Description: North Jersey Energy Associates, L.P. submits tariff filing per 35.13(a)(2)(iii: North Jersey Energy Associates, A Limited Partnership to be effective 7/26/2010.

Filed Date: 10/12/2011.

Accession Number: 20111012-5159.

Comment Date: 5 p.m. Eastern Time on Wednesday, November 2, 2011.

Docket Numbers: ER12-69-000.

Applicants: Pacific Gas and Electric Company.

Description: Pacific Gas and Electric Company submits tariff filing per 35.13(a)(2)(iii: GMC Tariff Update 2012 to be effective 1/1/2012.

Filed Date: 10/12/2011.

Accession Number: 20111012-5160.

Comment Date: 5 p.m. Eastern Time on Wednesday, November 2, 2011.

Take notice that the Commission received the following public utility holding company filings:

Docket Numbers: PH12-2-000.

Applicants: Government of Singapore Investment Corporation.

Description: FERC-65A Exemption Notification of Government of Singapore Investment Corporation (Ventures) Pte Ltd.

Filed Date: 10/12/2011.

Accession Number: 20111012-5185.

Comment Date: 5 p.m. Eastern Time on Wednesday, November 2, 2011.

Take notice that the Commission received the following qualifying facility filings:

Docket Numbers: QF12-7-000.

Applicants: City of Kinston, NC.

Description: City of Kinston at Dopaco submits FERC Form 556—Notice of Certification of Qualifying Facility Status for a Small Power Production Facility.

Filed Date: 10/12/2011.

Accession Number: 20111012-5161.

Comment Date: None Applicable.

Docket Numbers: QF12-8-000.

Applicants: PowerSecure, Inc.

Description: PowerSecure, Inc. for City of Washington, NC at Beaufort County Courthouse submits FERC Form 556—Notice of Certification of Qualifying Facility Status for a Small Power Production Facility.

Filed Date: 10/12/2011.

Accession Number: 20111012-5172.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2011.
Nathaniel J. Davis, Sr.,
Deputy Secretary.

[FR Doc. 2011-27142 Filed 10-19-11; 8:45 am]

BILLING CODE 6717-01-P